DEPARTMENT OF ENERGY

[OE Docket No. EA-328-A]

Application To Export Electric Energy; RBC Energy Services LP

AGENCY: Office of Electricity Delivery and Energy Reliability, DOE.

ACTION: Notice of application.

SUMMARY: RBC Energy Services LP (RBC Energy) has applied to renew its authority to transmit electric energy from the United States to Canada pursuant to section 202(e) of the Federal Power Act (FPA).

DATES: Comments, protests, or motions to intervene must be submitted on or before September 20, 2012.

ADDRESSES: Comments, protests, or motions to intervene should be addressed to: Christopher Lawrence, Office of Electricity Delivery and Energy Reliability, Mail Code: OE-20, U.S. Department of Energy, 1000 Independence Avenue SW., Washington, DC 20585-0350. Because of delays in handling conventional mail, it is recommended that documents be transmitted by overnight mail, by electronic mail to Christopher.Lawrence@hq.doe.gov, or by facsimile to 202-586-8008.

FOR FURTHER INFORMATION CONTACT: Christopher Lawrence (Program Office) at 202-586-5260, or by email to Christopher.Lawrence@hq.doe.gov.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the FPA (16 U.S.C. 824a(e)).

On September 26, 2007, the Department of Energy (DOE) issued Order No. EA-328 authorizing RBC Energy to transmit electric energy from the United States to Canada as a power marketer for a five-year term. The current export authority in Order No EA-328 will expire on September 26, 2012. On July 26, 2012, RBC Energy filed an application with DOE for renewal of that authority for an additional five-year term.

In its application, RBC Energy states that neither it nor its affiliates “owns, operates or controls any electric power transmission or distribution facilities in the United States.” RBC Energy states and it is reasonable to presume, that the electric power proposed to be exported to Canada will be purchased from electric utilities and federal power marketing agencies pursuant to voluntary agreements and will be surplus to the system needs of the entities selling the power to RBC Energy. The application also indicates that RBC Energy is a power marketer authorized by the Federal Energy Regulatory Commission (FERC) to sell energy, capacity, and specified ancillary services at market-based rates.

The existing international transmission facilities to be utilized by RBC Energy have previously been authorized by Presidential permits issued pursuant to Executive Order 10485, as amended, and are appropriate for open access transmission by third parties.

Procedural Matters: Any person desiring to be heard in this proceeding should file a comment or protest to the application at the address provided above. Protests should be filed in accordance with Rule 211 of the FERC Rules of Practice and Procedures (18 CFR 385.211). Any person desiring to become a party to these proceedings should file a motion to intervene at the above address in accordance with FERC Rule 214 (385.214). Five copies of such comments, protests, or motions to intervene should be sent to the address provided above on or before the date listed above.

Comments on the RBC Energy application to export electric energy to Canada should be clearly marked with OE Docket No. 328-A. An additional copy is to be provided directly to Matthew S. Arnold, Senior Counsel, Royal Bank of Canada, 200 Bay Street, 14th Floor, North Tower, Toronto, Ontario, Canada M5J 2J5 and with Elizabeth Jordan, Vice President, Compliance, RBC Capital Markets, 200 Bay Street, 9th Floor, South Tower, Toronto, Ontario, Canada M5J 2J5. A final decision will be made on this application after the environmental impacts have been evaluated pursuant to DOE's National Environmental Policy Act Implementing Procedures (10 CFR Part 1021) and after a determination is made by DOE that the proposed action will not have an adverse impact on the reliability of the U.S. electric power supply system.

Copies of this application will be made available, upon request, for public inspection and copying at the address provided above, by accessing the program Web site at http://energy.gov/node/11845 or by emailing Angela Troy at Angela.Troy@hq.doe.gov.

Issued in Washington, DC, on August 14, 2012.
Jon Worthington,
Deputy Assistant Secretary, Office of Electricity Delivery and Energy Reliability.

[FR Doc. 2012-20489 Filed 8-20-12; 8:45 am]

BILLING CODE 6450-01-P